FARM CREDIT ADMINISTRATION

12 CFR Chapter VI

RIN 3052-AC15

Statement on Regulatory Burden

AGENCY: Farm Credit Administration.

ACTION: Notice of intent; request for comment.

SUMMARY: The Farm Credit Administration (FCA, our, or we) is seeking public comment on the appropriateness of the requirements it imposes on the Farm Credit System (System). We ask for comments on our regulations and policies that may duplicate other requirements, are ineffective, or impose burdens that are greater than the benefits received. We are taking this action to improve the regulatory framework within which System institutions operate.

DATES: Please send your comments to the FCA by July 15, 2003.

ADDRESSES: You may send comments by electronic mail to reg-comm@fca.gov, through the Pending Regulations section of the FCA's interactive Web site at http://www.fca.gov, or through the Government-wide http://www.regulations.gov portal. You may also send written comments to Robert E. Donnelly, Acting Director, Regulation and Policy Division, Office of Policy and Analysis, Farm Credit Administration, 1501 Farm Credit Drive, McLean, Virginia 22102-5090 or by facsimile to (703) 734-5784. Copies of all comments we receive can be reviewed at our office in McLean, Virginia.

FOR FURTHER INFORMATION CONTACT: Lori Markowitz, Policy Analyst, Office of Policy and Analysis, Farm Credit Administration, McLean, VA 22102-5090, (703) 883-4498, TTY (703) 883-4434; or Dale Aultman, Policy Analyst, Office of Policy and Analysis, Farm Credit Administration, McLean, VA 22102-5090, (703) 883-4498, TTY (703) 883-4434; or Gary K. Van Meter, Senior Counsel, Regulatory Enforcement Division, Office of General Counsel, Farm Credit Administration, McLean, VA 22102-5090, (703) 883-4020, TTY (703) 883-4020.

SUPPLEMENTARY INFORMATION:

I. Objective

Consistent with law, safety, and soundness, the objective of this notice is to continue our efforts to identify and review FCA regulations and policies that:

• May duplicate other requirements;

• Are ineffective; or

• Impose burdens that are greater than the benefits received.

II. Background

The FCA is the independent Federal agency in the executive branch of the Government responsible for examining and regulating System institutions. As a Government-sponsored enterprise, the System primarily provides loans to farmers, ranchers, aquatic producers and harvesters, agricultural cooperatives, and rural utilities.

From 1988 through 1992, as part of our initial effort to eliminate regulatory burden, we reduced, by more than 70 percent, the number of matters that required “prior approval” by the FCA. In 1993, we took an additional step to provide relief by requesting public comments on regulatory requirements that are no longer necessary, which the FCA may have imposed on the System. See 58 FR 34003 (June 23, 1993). After reviewing the comments received, we eliminated or streamlined many regulatory requirements.

The Farm Credit System Reform Act of 1996 (Reform Act) states that we made considerable progress in reducing regulatory burden on System institutions. The Reform Act also requires that we continue our efforts to relieve regulatory burden.¹

¹ See Pub. L. 104-105, § 212, 110 Stat. 174 (1996).

In 1998, we provided the public a summary of the actions we took in response to the 1993 solicitation and again requested public comments on regulatory requirements that are no longer necessary. See 63 FR 44176 (August 18, 1998) and 63 FR 64013 (November 18, 1998). After we reviewed and analyzed the comments received, we:

1. Repealed or amended 16 FCA regulations through a direct final rulemaking ²—See 64 FR 43046 (August 9, 1999);

² However, the amended regulation on approval of insider loans was subsequently withdrawn. See 64 FR 55621 (October 14, 1999).

2. Informed the public of the regulations we retained without amendment because they either are required by the Farm Credit Act of 1971, as amended (Act), or protect the safety and soundness of the System—See 65 FR 21128 (April 20, 2000); and

3. Addressed other regulatory burden issues in separate regulatory projects and other guidance, including:

• Loan Purchases and Sales Final Regulation—See 67 FR 1281 (January 10, 2002);

• Stock Issuance Final Regulation—See 66 FR 16841 (March 28, 2001);

• Disclosure to Shareholders Final Regulation—See 66 FR 14299 (March 12, 2001);

• Investment Management Final Regulation—See 64 FR 28884 (May 28, 1999); and

• Policy and Reporting Changes for Young, Beginning, and Small Farmers and Ranchers Programs Bookletter—See BL-040 (December 11, 1998).

III. Continuing Efforts To Reduce Regulatory Burden

Future regulatory projects, including proposed regulations on Distressed Loan Restructuring (See 68 FR 5595, February 4, 2003) and Effective Interest Rates (See 68 FR 5587, February 4, 2003), will address many of the regulatory burden comments from the 1998 notice. In addition, we will consider the remaining comments from our 1998 notice in subsequent rulemakings and other guidance.

IV. Requesting Comments

In light of changes in the financial industry and its customers since our 1998 notice, we request comments on any FCA regulations or other guidance ³ that may duplicate other requirements, are ineffective, or impose burdens that are greater than the benefits received.

³ FCA regulations and other guidance may be reviewed through the FCA Handbook section of the FCA's Web site at http://www.fca.gov.

Your comments are appreciated and will assist us in our continuing efforts to identify and reduce regulatory burden on System institutions. We will also continue our efforts to maintain and adopt regulations and policies that are necessary to implement the Act and ensure the safety and soundness of the System. These actions will enable the System to better serve America's farmers, ranchers, aquatic producers and harvesters, agricultural cooperatives, and rural utilities in changing agricultural credit markets.

Dated: May 13, 2003.
Jeanette C. Brinkley,
Secretary, Farm Credit Administration Board.

[FR Doc. 03-12264 Filed 5-15-03; 8:45 am]

BILLING CODE 6705-01-P